DEPARTMENT OF ENERGY

Federal Energy Regulatory Commission

[ Docket No. CP11-56-000

Notice of Intent to Hold Public Meetings and Hear Public Comment on the Proposed New Jersey-New York Expansion Project Draft Environmental Impact Statement; Algonquin Gas Transmission, LLC; Texas Eastern Transmission, LP

On September 9, 2011, the staff of the Federal Energy Regulatory Commission (FERC or Commission) issued the Draft Environmental Impact Statement (draft EIS) for the proposed New Jersey-New York Expansion Project (NJ-NY Project or Project) and mailed it to resource and land management agencies, interested organizations, and individuals. The draft EIS assesses the potential environmental effects of the construction and operation of the NJ-NY Project in accordance with the requirements of the National Environmental Policy Act of 1969 (NEPA).

Any person wishing to comment on the draft EIS may do so. The public comment deadline is October 31, 2011. In addition to or in lieu of sending written comments, FERC staff invites you to attend one of the public comment meetings conducted in the Project area, scheduled as follows:

Date | Location
Monday, October 17, 2011, 7:00 p.m. | P.S. 44—Thomas C. Brown School Auditorium, 80 Maple Parkway, Staten Island, New York 10303.
Tuesday, October 18, 2011, 7:00 p.m. | Knights of Columbus Hall, 669 Avenue C, Bayonne, New Jersey 07002.
Wednesday, October 19, 2011, 7:00 p.m. | James J. Ferris High School Auditorium, 35 Colgate Street, Jersey City, New Jersey 07302.
Thursday, October 20, 2011, 7:00 p.m. | P.S. 41—Greenwich Village School Auditorium, 116 West 11th Street, New York, New York 10011.

The locations and times of these meetings will also be posted on the Commission's calendar located at http://www.ferc.gov/EventCalendar/EventsList.aspx along with other relevant information. Interested groups and individuals are encouraged to attend the public comment meetings and present oral comments on the draft EIS. A transcript of the meetings will be prepared and submitted to the docket for public review.

We expect to have numerous attendees and speakers at the meetings. Based on the attendance at previous meetings, commentors may be required to limit verbal presentations to 5 minutes or less; therefore, we request you structure your comments so that they are as specific and concise as possible. This will allow us to accommodate all who are interested in speaking. If you would prefer, you may submit written comments at the public meeting or directly to the FERC docket at your convenience. Oral comments will not receive greater attention than written comments. We will address oral and written comments equally.

The draft EIS has been placed in the public files of the FERC and is available for distribution and public inspection at: Federal Energy Regulatory Commission, Public Reference Room, 888 First Street, NE, Room 2A, Washington, DC 20426, (202) 502-8371.

CD-ROM copies of the draft EIS were mailed to federal, state, and local agencies; public interest groups; individuals who requested a copy of the draft EIS or provided comments during scoping; libraries and newspapers in the Project area; and parties to this proceeding. Hard copy versions of the draft EIS were mailed to those specifically requesting them. A limited number of hard copies and CD-ROMs are available from the Public Reference Room identified above.

Please note that copies of the CD-ROM were mailed with a postcard that included a docket number for Algonquin Gas Transmission, LLC that was incorrect. There is only one docket number for the Project: CP11-56-000.

Additional information about the Project is available from the Commission's Office of External Affairs, at (866) 208-FERC or on the FERC (http://www.ferc.gov) using the eLibrary link. Click on the eLibrary link, click on “General Search,” and enter the docket number excluding the last three digits in the Docket Number field (i.e., CP11-56). Be sure you have selected an appropriate date range. For assistance, please contact FERC Online Support at FercOnline Support@ferc.gov or toll free at (866) 208-3676; for TTY, contact (202) 502-8659. The eLibrary link also provides access to the texts of formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to http://www.ferc.gov/esubscribenow.htm.

Dated: September 16, 2011.
Kimberly D. Bose,
Secretary.

[FR Doc. 2011-24756 Filed 9-26-11; 8:45 am]

BILLING CODE 6717-01-P